INTERNATIONAL TRADE COMMISSION

[Investigation Nos. 731-TA-1071-1072 (Preliminary)]

Magnesium From China and Russia

Determination

On the basis of the record ¹ developed in the subject investigations, the United States International Trade Commission (Commission) determines, pursuant to section 733(a) of the Tariff Act of 1930 (19 U.S.C. 1673b(a)) (the Act), that there is a reasonable indication that an industry in the United States is materially injured by reason of imports from Russia of pure magnesium, provided for in subheadings 8104.11.00 and 8104.30.00 of the Harmonized Tariff Schedule of the United States (HTS), and imports from China and Russia of alloy magnesium, provided for in subheadings 8104.19.00 and 8104.30.00 of the HTS, that are alleged to be sold in the United States at less than fair value (LTFV).

¹ The record is defined in sec. 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under section 733(b) of the Act, or, if the preliminary determinations are negative, upon notice of affirmative final determinations in those investigations under section 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On February 27, 2004, a petition was filed with the Commission and Commerce by U.S. Magnesium Corp., Salt Lake City, UT; United Steelworkers of America, Local 8319, Salt Lake City, UT; and Glass, Molders, Pottery, Plastics & Allied Workers International, Local 374, Long Beach, CA, alleging that an industry in the United States is materially injured by reason of LTFV imports of pure and alloy magnesium from Russia and alloy magnesium from China. Accordingly, effective February 27, 2004, the Commission instituted antidumping duty investigations Nos. 731-TA-1071-1072 (Preliminary).

Notice of the institution of the Commission's investigations and of a public conference to be held in connection therewith was given by posting copies of the notice in the Office of the Secretary, U.S. International Trade Commission, Washington, DC, and by publishing the notice in the Federal Register of March 9, 2004 (69 FR 11041). The conference was held in Washington, DC, on March 19, 2004, and all persons who requested the opportunity were permitted to appear in person or by counsel.

The Commission transmitted its determinations in these investigations to the Secretary of Commerce on April 12, 2004. The views of the Commission are contained in USITC Publication 3685 (April 2004), entitled Magnesium from China and Russia: Investigations Nos. 731-TA-1071-1072 (Preliminary).

Issued: May 17, 2004.
By order of the Commission.
Marilyn R. Abbott,
Secretary to the Commission.

[FR Doc. 04-11504 Filed 5-20-04; 8:45 am]

BILLING CODE 7020-02-P